DEPARTMENT OF HEALTH AND HUMAN SERVICES

National Institutes of Health

National Institute of Nursing Research; Amended Notice of Meeting

Notice is hereby given of a change in the meeting of the National Institute of Nursing Research Special Emphasis Panel, April 18, 2007, 8 a.m. to April 19, 2007, 9 p.m., National Institutes of Health, 6701 Rockledge Drive, Bethesda, MD 20892 which was published in the Federal Register on January 30, 2007, FR 07-360.

The meeting changed from March 14-15, 2007 to April 18-19, 2007. The meeting place changed from Crowne Plaza Hotel, Silver Spring to 6701 Democracy, Bethesda. The new time begins at 7:30 p.m. to 9 p.m.on 4/18/07 and 7:30 a.m. to 3 p.m. on 4/19/07. The meeting is closed to the public.

Dated: April 2, 2007.
Jennifer Spaeth,
Director, Office of Federal Advisory Committee Policy.

[FR Doc. 07-1733 Filed 4-6-07; 8:45 am]

BILLING CODE 4140-01-M